NATIONAL SCIENCE FOUNDATION

Special Emphasis Panel in Information and Intelligent Systems; Notice of Meetings

In accordance with the Federal advisory Committee Act (Pub. L. 92-463, as amended), the National Science Foundation's Special Emphasis Panel in Information and Intelligent Systems (1200) announces the following meetings.

Date/Time: June 1-2, 2000, 8:30 a.m.-5 p.m.

Place: National Science Foundation, 4201 Wilson Blvd, Room 530, Arlington, VA.

Type of Meeting: Closed.

Agenda: To review and evaluate Robotics and Human Augmentation Program proposals as part of the selection process for awards.

Date/Time: June 8-9, 2000, 8:30 a.m.-5 p.m.

Place: National Science Foundation, 4201 Wilson Blvd, Room 530, Arlington, VA.

Type of Meeting: Closed.

Agenda: To review and evaluate Robotics and Human Augmentation Program proposals as part of the selection process for awards.

Date/Time: June 13-14, 2000, 8:30 a.m.-5 p.m.

Place: Holiday Inn, 4610 North Fairfax Drive, Arlington, VA.

Type of Meeting: Closed.

Agenda: To review and evaluate Knowledge and Cognitive Systems Program proposals as part of the selection process for awards.

Date/Time: June 15, 2000, 8:30 a.m.-5 p.m.

Place: Key Bridge Marriott, 1401 Lee Highway, Arlington, VA.

Type of Meeting: Closed.

Agenda: To review and evaluate Computation and Social Systems Program proposals as part of the selection process for awards.

Date/Time: June 20-21, 2000, 8:30 a.m.-5 p.m.

Place: River Inn, 925 25th Street NW, Washington, DC.

Type of Meeting: Closed.

Agenda: To review and evaluate Information and Data Management Program proposals as part of the selection process for awards.

CONTACT PERSON: Dr. Ephraim Glinert, Deputy Division Director, National Science Foundation, 4201 Wilson Blvd., Arlington, VA 22230; (703) 306-1926.

MINUTES: May be obtained from the contact person listed above.

PURPOSE OF MEETINGS: To provide advice and recommendations concerning proposals submitted to NSF for financial support.

REASON FOR CLOSINGS: The proposals being reviewed include information of a proprietary or confidential nature, including technical information; financial data, such as salaries; and personal information concerning individuals associated with the proposals. These matters are exempt under 5 U.S.C. 552b(c), (4) and (6) of the Government in the Sunshine Act.

Note: Closed portions are proper under the Sunshine Act exemptions cited. The CMO's signature on this Notice is the required determination.

Dated: May 23, 2000.
Karen J. York,
Committee Management Officer.

[FR Doc. 00-13424 Filed 5-26-00; 8:45 am]

BILLING CODE 7555-01-M